DEPARTMENT OF DEFENSE

Department of the Army; Corps of Engineers

Intent To Prepare an Environmental Impact Statement for the Encinitas/Solana Beach Shoreline Protection and San Elijo Lagoon Environmental Restoration Feasibility Study, San Diego County, California

AGENCY: U.S. Army Corps of Engineers, DOD.

ACTION: Notice

SUMMARY: The Los Angeles District intends to prepare an Environmental Impact Statement (EIS) to support a cost-shared feasibility study with the Cities of Encinitas and Solana Beach, California, for shoreline protection and environmental restoration along the coastline of these two cities. The purpose of the feasibility study is to evaluate alternatives for reducing beach and shoreline erosion and investigate opportunities for environmental restoration in the San Elijo lagoon. Alternatives will include both structural and non-structural measures, and may include beneficial re-use of sand removed from the lagoon by placing it on the beach for shoreline protection. The EIS will analyze potential impacts of the recommended plan and a range of alternatives for lagoon environmental improvements.

ADDRESSES: Commander, U.S. Army Corps of Engineers, Los Angeles District, 911 Wilshire Blvd, Los Angeles, CA 90053, Attn: Environmental Support Section.

FOR FURTHER INFORMATION CONTACT: Rey Farve, Project Ecologist (213) 452-3864, or Bruce Williams, Study Manager, (213) 452-3818.

SUPPLEMENTARY INFORMATION: Authorization: House Public Works Transportation Committee Resolution dated May 13, 1993. The Army Corps of Engineers intends to prepare an EIS to assess the environmental effects associated with proposed erosion mitigating measures in the study area.

Study Area: The study area is located along the Pacific Ocean coastline in the Cities of Encinitas and Solana Beach, San Diego County, California. Encinitas is approximately 16 kilometers (10 miles) south of Oceanside Harbor, and 27 kilometers (17 miles) north of Point La Jolla. The City's shoreline, about 9.6 kilometers (6 miles) long, is bounded by Batiquitos Lagoon to the north and on the south by San Elijo Lagoon. Its southern, or downcoast, neighbor is the City of Solana Beach. Solana Beach is bounded by San Elijo Lagoon to the north and on the south by the City of Del Mar. The City's shoreline is about 3.2 kilometers (2 miles) long for a total of about 8 miles of study area shoreline. A major portion of the shoreline segment consists of narrow sand and cobble beaches fronting nearshore bluffs.

Problems and Needs: A number of public concerns have been identified including:

1. Bluff erosion threatens property, mostly private residences atop the bluffs.

2. Public safety due to episodic bluff failure.

3. Closure of Old Highway 101 at Cardiff during storm events.

4. Bluff toe erosion and curtailed recreation activity resulting from eroded beach conditions.

5. Degradation of existing ecosystem at San Elijo Lagoon due to frequent closure of the lagoon entrance restricting tidal flushing and sedimentation in the lagoon reducing circulation and water area.

Proposed Action and Alternatives: The Los Angeles District will investigate and evaluate all reasonable alternatives to address the problems and needs identified above. In addition to the NO ACTION alternative, both structural (artificial reefs, toe protection, beach restoration and maintenance, bluff retention structures, drainage control, etc.) and non-structural (management) measures will be investigated. Environmental measures may also include structural and non-structural measure to improve tidal hydrology and restore and maintain a healthy ecosystem within the lagoon. This may include removal of sediment from the lagoon which will be tested for suitability for beach placement. If found suitable, this material may be placed on the beach for shoreline protection as beneficial re-use.

If not found suitable, the sediment will be removed to a different location, and the lagoon restoration project may then break off from the shoreline protection study and become an independent environmental restoration study for the remainder of the Feasibility phase.

Scoping: The scoping process is on-going and has involved preliminary coordination with Federal, State, and local agencies. A public scoping meeting is scheduled for 6:00 p.m. on October 3, at the city of Encinitas—City Hall—Poinsettia Room 505 S. Vulcan Avenue, Encinitas, California. This information is being published in the local news media and a notice is being mailed to all parties on the study mailing list. The public will have an opportunity to express opinions and raise any issues relating to the scope of the Feasibility Study and the Environmental Impact Report. The public as well as Federal, State, and local agencies are encouraged to participate by submitting data, information, and comments identifying relevant environmental and socioeconomic issues to be addressed in the study. Useful information includes other environmental studies, published an unpublished data, alternatives that could be addressed in the analysis, and potential mitigation measures associated with the proposed action. All comments enter into the public record. You may also submit your concerns in writing to the city or the Los Angeles District at the address above. Comments, suggestions, and requests to be placed on the mailing list for announcements should be sent to Bruce M. Williams, U.S. Army Corps of Engineers, Los Angeles District, P.O. Box 532711, Los Angeles, CA 90053-2325, Attn: CESPL-PD, or e-mail to bwilliams@spl.usace.army.mil.

Availability of the Draft EIS: The Draft EIS is scheduled to be published and circulated in November, 2003, and a public hearing to receive comments on the Draft EIS will be held after it is published.

Dated: September 7, 2001.
Richard G. Thompson,
Colonel, Corps of Engineers, District Engineer.

[FR Doc. 01-23520 Filed 9-19-01; 8:45 am]

BILLING CODE 3710-KF-M